DEPARTMENT OF TRANSPORTATION

Federal Aviation Administration

14 CFR Part 39

[Docket No. 98-ANE-72-AD]

RIN 2120-AA64

Airworthiness Directives; Honeywell International Inc., (Formerly AlliedSignal, Inc., Formerly Textron Lycoming, Formerly Avco Lycoming) T5311A, T5311B, T5313B, T5317A, T5317A-1, T5317B Series Turboshaft Engines and Lycoming Former Military T53-L-11B, T53-L-11D, T53-L-13B, T53-L-13B/D, and T53-L-703 Series Turboshaft Engines

AGENCY: Federal Aviation Administration (FAA), DOT.

ACTION: Notice of proposed rulemaking (NPRM).

SUMMARY: The FAA proposes to supersede an existing airworthiness directive (AD), AD 98-22-11, for AlliedSignal, Inc. T5317A-1 turboshaft engines. That AD currently requires repetitive engine fuel pump pressure tests of certain fuel control regulator assemblies to determine if both fuel pumps in the fuel control regulator assemblies are producing fuel pressure. That AD also requires replacing the fuel control regulator assembly, if necessary. This proposed AD would require initial and repetitive visual and dimensional inspections of fuel control regulator assembly main and secondary drive shaft and pump gear splines, installed in certain fuel control regulator assemblies. This proposed AD would also expand the engine applicability, and include certain engines installed on helicopters certified under § 21.25 or 21.27 of the Code of Federal Regulations (14 CFR 21.25 or 14 CFR 21.27). This proposed AD results from several reports of loss of fuel flow from the engine fuel control regulator assembly due to failure of both main and secondary drive shaft and pump gear splines. We are proposing this AD to prevent in-flight engine failure and forced autorotation landing.

DATES: We must receive any comments on this proposed AD by February 27, 2006.

ADDRESSES: Use one of the following addresses to comment on this proposed AD:

• By mail: Federal Aviation Administration (FAA), New England Region, Office of the Regional Counsel, Attention: Rules Docket No. 98-ANE-72-AD, 12 New England Executive Park, Burlington, MA 01803-5299.

• By fax: (781) 238-7055.

• By e-mail: 9-ane-adcomment@faa.gov.

Contact Honeywell International Inc., Attn: Data Distribution, M/S 64-3/2101-201, P.O. Box 29003, Phoenix, AZ 85038-9003; telephone: (602) 365-2493; fax:(602) 365-5577, for the service information identified in this proposed AD.

You may examine the AD docket at the FAA, New England Region, Office of the Regional Counsel, 12 New England Executive Park, Burlington, MA.

FOR FURTHER INFORMATION CONTACT: Robert Baitoo, Aerospace Engineer, Los Angeles Aircraft Certification Office, FAA, Transport Airplane Directorate, 3960 Paramount Blvd., Lakewood, CA 90712-4137; telephone: (562) 627-5245, fax: (562) 627-5210.

SUPPLEMENTARY INFORMATION:

Comments Invited

We invite you to send any written relevant data, views, or arguments regarding this proposal. Send your comments to an address listed under ADDRESSES. Include “AD Docket No. 98-ANE-72-AD” in the subject line of your comments. If you want us to acknowledge receipt of your mailed comments, send us a self-addressed, stamped postcard with the docket number written on it; we will date-stamp your postcard and mail it back to you. We specifically invite comments on the overall regulatory, economic, environmental, and energy aspects of the proposed AD. If a person contacts us verbally, and that contact relates to a substantive part of this proposed AD, we will summarize the contact and place the summary in the docket. We will consider all comments received by the closing date and may amend the proposed AD in light of those comments.

Examining the AD Docket

You may examine the AD Docket (including any comments and service information), by appointment, between 8 a.m. and 4:30 p.m., Monday through Friday, except Federal holidays. See ADDRESSES for the location.

Discussion

On November 25, 1998, we issued AD 98-22-11, Amendment 39-10926 (63 FR 66741, December 3, 1998). That AD requires repetitive pressure testing to determine if both fuel pumps in the fuel control regulator assembly, part number 1-170-240-93, are producing fuel pressure, and, if necessary, replacing the fuel regulator assembly with a serviceable part. That AD was the result of a report of an accident involving a T5317A-1 turboshaft engine installed on a Kaman Aerospace model K-1200 helicopter engaged in logging operations. That condition, if not corrected, could result in engine failure and forced autorotation landing.

Actions Since AD 98-22-11 Was Issued

Since we issued that AD, we received in 2004 a report of an engine failure in a single-engine helicopter, which led to a forced autorotation landing. Investigation revealed that excessive wear of the fuel control regulator assembly pump splines caused the power loss. We also became aware of reports of abnormally excessive wear of fuel control regulator pump assembly pump splines. These parts are installed in Goodrich Pump & Engine Control Systems, Inc. (GPECS) (formerly Chandler Evans Control Systems) engine fuel control regulator assembly models TA-2S, TA-2G, TA-2F, TA-7, and TA-10. These fuel control regulator assembly models are installed on T5311A, T5311B, T5313B, T5317A, T5317A-1, T5317B, T53-L-11B, T53-L-11D, T53-L-13B, T53-L-13B/D, and T53-L-703 series turboshaft engines. This condition, if not corrected, could result in an in-flight engine failure and forced autorotation landing.

Relevant Service Information

We have reviewed and approved the technical contents of GPECS (TA series) Service Bulletin (SB) No. 73-42, Revision 1, dated August 12, 2004. That SB describes procedures for performing visual and dimensional inspections of the fuel control regulator assembly pump splines.

Differences Between the Proposed AD and the Manufacturer's Service Information

Although the SB recommends return of the entire fuel control regulator assembly to GPECS if the pump spline wear is not within limits, this proposed AD does not require that.

FAA's Determination and Requirements of the Proposed AD

We have evaluated all pertinent information and identified an unsafe condition that is likely to exist or develop on other products of this same type design. We are proposing this AD, which would require initial and repetitive visual and dimensional inspections of the fuel control regulator pump assembly pump splines of GPECS engine fuel controls models TA-2S, TA-2G, TA-2F, TA-7, and TA-10. The proposed AD would require you to use the service information described previously to perform these actions.

Costs of Compliance

There are about 700 Honeywell International Inc., T5311A, T5311B, T5313B, T5317A, T5317A-1, and T5317B series turboshaft engines and Lycoming former military T53-L-11B, T53-L-11D, T53-L-13B, T53-L-13B/D, and T53-L-703 series turboshaft engines of the affected design in the worldwide fleet. We estimate that this proposed AD would affect 592 engines installed on helicopters of U.S. registry. We also estimate that it would take about 8 work hours per engine to perform an inspection, and that the average labor rate is $65 per work hour. Based on these figures, we estimate the cost of the proposed AD to U.S. operators for one inspection to be $307,840. A replacement fuel control regulator pump assembly would cost about $18,000. We estimate that if all affected fuel control regulator pump assemblies failed inspection and had to be replaced, the total parts cost of the proposed AD to U.S. operators would be $10,656,000.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Would not have a significant economic impact, positive or negative, on a substantial number of small entities under the criteria of the Regulatory Flexibility Act.

We prepared a summary of the costs to comply with this proposal and placed it in the AD Docket. You may get a copy of this summary by sending a request to us at the address listed under ADDRESSES. Include “AD Docket No. 98-ANE-72-AD” in your request.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 63 FR 66741 (December 3, 1998) airworthiness directive to read as follows:

Honeywell International Inc.: Docket No. 98-ANE-72-AD.

Comments Due Date

(a) The Federal Aviation Administration (FAA) must receive comments on this airworthiness directive (AD) action by February 27, 2006.

Affected ADs

(b) This AD supersedes AD 98-22-11, Amendment 39-10926.

Applicability

(c) This AD applies to Honeywell International Inc., (formerly AlliedSignal, Inc., formerly Textron Lycoming, formerly Avco Lycoming) T5311A, T5311B, T5313B, T5317A, T5317A-1, and T5317B series turboshaft engines and Lycoming former military T53-L-11B, T53-L-11D, T53-L-13B, T53-L-13B/D, and T53-L-703 series turboshaft engines using Goodrich Pump & Engine Control Systems, Inc. (GPECS) (formerly Chandler Evans Control Systems) engine fuel control regulator assembly models TA-2S, TA-2G, TA-2F, TA-7, or TA-10.

(d) The T5311A, T5311B, T5313B, T5317A, T5317A-1, and T5317B turboshaft engines are installed on, but not limited to, Bell 204, 205, and Kaman K-1200 helicopters. Lycoming T53-L-11B, T53-L-11D, T53-L-13B, T53-L-13B/D, and T53-L-703 series turboshaft engines are installed on, but not limited to, Bell AH-1 and UH-1 helicopters certified under § 21.25 or 21.27 of the Code of Federal Regulations (14 CFR 21.25 or 14 CFR 21.27).

Unsafe Condition

(e) This AD results from several reports of loss of fuel flow from the engine fuel control regulator assembly due to failure of both main and secondary drive shaft and pump gear splines. We are issuing this AD to prevent in-flight engine failure and forced autorotation landing.

Compliance

(f) You are responsible for having the actions required by this AD performed within the compliance times specified unless the actions have already been done.

Initial Visual and Dimensional Inspection

(g) Within 150 flight hours after the effective date of this AD, do the following:

(1) Remove the fuel control regulator assembly from the engine and perform an initial visual and dimensional inspection of the fuel control regulator assembly main and secondary drive shaft and pump gear splines for wear.

(2) Use paragraphs 2.A. through 2.D.(7) and 2.E. through 2.F.(2) of the Accomplishment Instructions of Goodrich Pump & Engine Control Systems, Inc. (TA series) Service Bulletin (SB) No. 73-42, Revision 1, dated August 12, 2004 to do the inspection.

(3) Do not install any engine fuel control regulator assembly that fails inspection.

Repetitive Visual and Dimensional Inspections

(h) Thereafter, within every 1, 250 flight hours since-last-inspection, perform repetitive visual and dimensional inspections of the fuel control regulator assembly main and secondary drive shaft and pump gear splines for wear, as specified in paragraphs (g)(1) through (g)(3) of this AD.

Alternative Methods of Compliance

(i) The Manager, Los Angeles Aircraft Certification Office, has the authority to approve alternative methods of compliance for this AD if requested using the procedures found in 14 CFR 39.19.

Related Information

(j) Honeywell International Inc. Service Bulletin No. T53-0138, Revision 1, dated May 5, 2005, also pertains to the subject of this AD, and is an FAA-approved alternative method of compliance for AD 98-22-11.

Issued in Burlington, Massachusetts, on December 22, 2005.
Peter A. White,
Acting Manager, Engine and Propeller Directorate, Aircraft Certification Service.

[FR Doc. E5-8019 Filed 12-28-05; 8:45 am]

BILLING CODE 4910-13-P